ENVIRONMENTAL PROTECTION AGENCY

40 CFR Part 300

[EPA-HQ-SFUND-1991-0006; FRL-9922-50-Region 8]

National Oil and Hazardous Substances Pollution Contingency Plan National Priorities List: Deletion of the Midvale Slag Superfund Site

AGENCY: Environmental Protection Agency.

ACTION: Proposed rule; notice of intent.

SUMMARY: The U.S. Environmental Protection Agency (EPA) Region 8 is issuing a Notice of Intent to Delete the Midvale Slag Superfund Site (Site), located in Salt Lake County, Utah from the National Priorities List (NPL) and requests comments on this proposed action. The NPL, promulgated pursuant to section 105 of the Comprehensive Environmental Response, Compensation, and Liability Act (CERCLA) of 1980, as amended, is an appendix of the National Oil and Hazardous Substances Pollution Contingency Plan (NCP). The EPA and the State of Utah, through the Utah Department of Environmental Quality (UDEQ), have determined that all appropriate response actions under CERCLA, other than operation, maintenance and five-year reviews, have been completed. However, this deletion does not preclude future actions under Superfund.

DATES: Comments must be received by March 9, 2015.

ADDRESSES: Submit your comments, identified by Docket ID no. EPA-HQ-SFUND-1991-0006, by one of the following methods: (1) http://www.regulations.gov: Follow on-line instructions for submitting comments. (2) Email: waterman.erna@epa.gov (3) Fax: 303-312-7151 (4) Mail: Erna Waterman, Remedial Project Manager, U.S. EPA, Region 8, Mail Code 8EPR-SR, 1595 Wynkoop Street, Denver, CO 80202-1129 (5) Hand delivery: US EPA, Region 8, 1595 Wynkoop Street, EPR-SR, Denver, CO 80202-1129. Such deliveries are only accepted during EPA's normal hours of operation (9 a.m. to 5 p.m.), and special arrangements should be made for deliveries of boxed information.

FOR FURTHER INFORMATION CONTACT: Erna Waterman, Remedial Project Manager, U.S. EPA Region 8, Mail code: 8EPR-SR, 1595 Wynkoop Street, Denver, CO 80202-1129; Phone: (303) 312-6762; Email: waterman.erna@epa.gov. You may contact Erna to request a hard copy of publicly available docket materials.

SUPPLEMENTARY INFORMATION: In the “Rules and Regulations” Section of this Federal Register, we are publishing a direct final Notice of Deletion of the Midvale Slag Superfund Site without prior Notice of Intent to Delete because we view this as a noncontroversial revision and anticipate no adverse comment. We have explained our reasons for this deletion in the preamble to the direct final Notice of Deletion, and those reasons are incorporated herein. If we receive no adverse comment(s) on this deletion action, we will not take further action on this Notice of Intent to Delete. If we receive adverse comment(s), we will withdraw the direct final Notice of Deletion, and it will not take effect. We will, as appropriate, address all public comments in a subsequent final Notice of Deletion based on this Notice of Intent to Delete. We will not institute a second comment period on this Notice of Intent to Delete. Any parties interested in commenting must do so at this time.

For additional information, see the direct final Notice of Deletion which is located in the Rules section of this Federal Register.

List of Subjects in 40 CFR Part 300

Environmental protection, Air pollution control, Chemicals, Hazardous substances, Hazardous waste, Intergovernmental relations, Penalties, Reporting and recordkeeping requirements, Superfund, Water pollution control, Water supply.

Authority: 33 U.S.C. 1321(c)(2); 42 U.S.C. 9601-9657; E.O. 13626, 77 FR 56749, 3CFR, 2013 Comp., p.306; E.O. 12777, 56 FR 54757, 3 CFR, 1991 Comp., p. 351; E.O. 12580, 52 FR 2923; 3 CFR, 1987 Comp., p. 193.

Dated: January 23, 2015.
Shaun L. McGrath,
Regional Administrator, Region 8.

[FR Doc. 2015-02331 Filed 2-4-15; 8:45 am]

BILLING CODE 6560-50-P